DEPARTMENT OF THE INTERIOR

National Park Service

[NPS-WASO-NAGPRA-NPS0037942; PPWOCRADN0-PCU00RP14.R50000]

Notice of Inventory Completion: Kent State University, Department of Anthropology, Kent, OH

AGENCY: National Park Service, Interior.

ACTION: Notice.

SUMMARY: In accordance with the Native American Graves Protection and Repatriation Act (NAGPRA), the Kent State University, Department of Anthropology, has completed an inventory of human remains and associated funerary objects and has determined that there is cultural affiliation between the human remains and associated funerary objects and the Indian Tribes or Native Hawaiian organizations in this notice.

DATES: Repatriation of the human remains and associated funerary objects in this notice may occur on or after June 20, 2024.

ADDRESSES: Richard Meindl Ph.D., Kent State University, P.O. Box 5190 Lowry Hall, Kent State University, Kent, OH 44240, telephone (330)-672-4363, email rmeindl@kent.edu.

SUPPLEMENTARY INFORMATION: This notice is published as part of the National Park Service's administrative responsibilities under NAGPRA. The determinations in this notice are the sole responsibility of the Kent State University, Department of Anthropology, and additional information on the determinations in this notice, including the results of consultation, can be found in the inventory or related records. The National Park Service is not responsible for the determinations in this notice.

Abstract of Information Available

Based on the information available, human remains representing at least 16 individuals have been reasonably identified. The 167 associated funerary objects are two painted turtle shells, shell beads, ceramic vessel sherds, fragments of ground stone tools, chert fragments, and animal bones (some worked into tools, and some not worked). The human remains and associated funerary objects were removed from the Kramer Village Site (33R033) in Ross County, OH, during the field season from 1984-1986. Many of the human remains uncovered are fragmentary, and determining age or sex of such individuals was not possible. Since 1992, all burials and their associated funerary objects were curated with the utmost care and placed in a secure area with access granted only to those working on the repatriation effort. The objects were found either with, or in close proximity to, human remains. Several objects were included in this inventory although they were collected on the surface of the ground requiring no excavation but are believed to be of cultural significance.

Cultural Affiliation

Based on the information available and the results of consultation, cultural affiliation is reasonably identified by the geographical location or acquisition history of the human remains and associated funerary objects described in this notice.

Determinations

The Kent State University has determined that:

• The human remains described in this notice represent the physical remains of 16 individuals of Native American ancestry.

• The 167 objects described in this notice are reasonably believed to have been placed with or near individual human remains at the time of death or later as part of the death rite or ceremony.

• There is a reasonable connection between the human remains and associated funerary objects described in this notice and the Absentee-Shawnee Tribe of Indians of Oklahoma; Eastern Shawnee Tribe of Oklahoma; Saginaw Chippewa Indian Tribe of Michigan; and the Shawnee Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 20, 2024. If competing requests for repatriation are received, the Kent State University, Department of Anthropology, must determine the most appropriate requestor prior to repatriation. Requests for joint repatriation of the human remains and associated funerary objects are considered a single request and not competing requests. The Kent State University Department of Anthropology is responsible for sending a copy of this notice to the Indian Tribes and Native Hawaiian organizations identified in this notice.

Authority: Native American Graves Protection and Repatriation Act, 25 U.S.C. 3003, and the implementing regulations, 43 CFR 10.10.

Dated: May 9, 2024.
Melanie O'Brien,
Manager, National NAGPRA Program.

[FR Doc. 2024-11090 Filed 5-20-24; 8:45 am]

BILLING CODE 4312-52-P